DEPARTMENT OF THE INTERIOR

Fish and Wildlife Service

[FWS-R4-ES-2020-N009; FXES11140400000-178-FF04EF2000]

Receipt of Proposed Habitat Conservation Plan for Sand Skink and Blue-Tailed Mole-Skink and Application To Amend Incidental Take Permit; Osceola County, FL; Categorical Exclusion

AGENCY: Fish and Wildlife Service, Interior.

ACTION: Notice of availability; request for comments and information.

SUMMARY: We, the Fish and Wildlife Service (Service), announce receipt of an application to amend an incidental take permit (ITP) under the Endangered Species Act of 1973, as amended. K. Hovnanian at Mystic Dunes, LLC (applicant) is requesting to modify its 5-year ITP authorizing take of federally listed sand skink and blue-tailed mole skink incidental to construction in Osceola County, Florida. We request public comment on the application, which includes the applicant's proposed habitat conservation plan (HCP), and the Service's preliminary determination that this HCP qualifies as “low-effect,” categorically excluded, under the National Environmental Policy Act. To make this determination, we used our environmental action statement and low-effect screening form, both of which are also available for public review.

DATES: We must receive your written comments on or before February 18, 2020.

ADDRESSES:

Obtaining Documents: You may obtain copies of the documents by any of the following methods:

• Telephone: Alfredo Begazo, 772-469-4234.

• Email: alfredo_begazo@fws.gov.

• U.S. mail: Alfredo Begazo, South Florida Ecological Services Office, Attn. Sunbeam Properties, Inc. Permit TE69951C-1, U.S. Fish and Wildlife Service, 1339 20th Street, Vero Beach, FL 32960-3559.

• In-person: The documents may be reviewed by appointment during regular business hours at the above address. Please call to make an appointment.

• Fax: Alfredo Begazo, 772-562-4288, Attn: Permit number TE69951C-1.

Submitting Comments: If you wish to submit comments on any of the documents, you may do so in writing via the above email address, U.S. mail address, or fax number, or you may hand-deliver comments to the above address during regular business hours.

FOR FURTHER INFORMATION CONTACT: Alfredo Begazo, by U.S. mail (see ADDRESSES) or via phone at 772-469-4234. Individuals who are hearing impaired or speech impaired may call the Federal Relay Service at 800-877-8339 for TTY assistance.

SUPPLEMENTARY INFORMATION: We, the U.S. Fish and Wildlife Service, announce receipt of an application from K. Hovnanian at Mystic Dunes, LLC to amend an existing 5-year incidental take permit (ITP) that was issued for take of the federally listed sand skink (Neoseps reynoldsi) and blue-tailed mole skink (Eumeces egregious) (skinks) incidental to construction of a residential development (project) in Osceola County, Florida. The applicant seeks to amend the ITP (ITP TE69951C-1) to account for take of 2.09 acres (ac) of occupied skink habitat rather the 6.7 ac currently authorized by the permit. We request public comment on the application, which includes the applicant's proposed habitat conservation plan (HCP) and the Service's preliminary determination that this HCP qualifies as “low-effect,” categorically excluded under the National Environmental Policy Act (NEPA; 42 U.S.C. 4321 et seq.). To make this determination, we used our environmental action statement and low-effect screening form, both of which are also available for public review.

Project

The applicant requests to amend its ITP to account for take of skinks via the conversion of 2.09 ac of habitat occupied for foraging and sheltering. The take would be incidental to the construction of a residential development on a 9-ac parcel in Section 15, Township 25 South, and Range 27 East, Osceola County, Florida. The applicant proposes to mitigate for the take by purchasing a number of credits equivalent to 4.18 ac of occupied skink habitat from a Service-approved conservation bank in Osceola County. The applicant would be required to purchase the credits prior to engaging in project activities on the parcel.

Public Availability of Comments

Before including your address, phone number, email address, or other personal identifying information in your comment, be aware that your entire comment—including your personal identifying information—may be made available to the public. While you may request that we withhold your personal identifying information, we cannot guarantee that we will be able to do so.

Our Preliminary Determination

The Service has made a preliminary determination that modification of the applicant's ITP and the project, including land clearing, construction of the residential development, and the proposed mitigation measure, would individually and cumulatively have a minor or negligible effect on skinks and the environment. Therefore, we have preliminarily concluded that the amended ITP would qualify for categorical exclusion and the HCP is low effect under our NEPA regulations at 43 CFR 46.205 and 46.210. A low-effect HCP is one that would result in (1) minor or negligible effects on federally listed, proposed, and candidate species and their habitats; (2) minor or negligible effects on other environmental values or resources; and (3) impacts that, when considered together with the impacts of other past, present, and reasonable foreseeable similarly situated projects, would not over time result in significant cumulative effects to environmental values or resources.

Next Steps

The Service will evaluate the application and the comments to determine whether to amend the permit. We will also conduct an intra-Service consultation pursuant to section 7 of the ESA to evaluate the effects of the revised take. After considering the preceding findings, we will determine whether the permit issuance criteria of section 10(a)(1)(B) of the ESA have been met. If met, the Service will amend the current permit and issue ITP number TE69951C-1 to K. Hovnanian at Mystic Dunes, LLC for incidental take of the sand skink and blue-tailed skink.

Authority

The Service provides this notice under section 10(c) (16 U.S.C. 1539(c)) of the ESA and NEPA regulation 40 CFR 1506.6.

Roxanna Hinzman,
Field Supervisor, South Florida Ecological Services Office.

[FR Doc. 2020-00631 Filed 1-15-20; 8:45 am]

BILLING CODE 4333-15-P